DEPARTMENT OF HOMELAND SECURITY

Coast Guard

46 CFR Part 28

[Docket Number USCG-2010-0625]

RIN 1625-AB50

Waiver of Citizenship Requirements for Crewmembers on Commercial Fishing Vessels

AGENCY: Coast Guard, DHS.

ACTION: Final rule; information collection approval.

SUMMARY: The Coast Guard announces that it has received approval from the Office of Management and Budget for an information collection request associated with the Waiver of Citizenship Requirements for Crewmembers on Commercial Fishing Vessels in a final rule we published in the Federal Register on February 14, 2014. In that rule, we stated we would publish a document in the Federal Register announcing the effective date of the collection-of-information related sections. This rule establishes December 23, 2019, as the effective date for those sections.

DATES: The amendments to §§ 28.1105 and 28.1110, published February 14, 2014 (79 FR 8864), are effective December 23, 2019.

ADDRESSES: To view documents mentioned in this preamble as being available in the docket, including the final rule published on February 14, 2014 (79 FR 8864), go to https://www.regulations.gov, type USCG-2010-0625 in the “SEARCH” box and click “SEARCH.” Click on Open Docket Folder on the line associated with this rule.

FOR FURTHER INFORMATION CONTACT: If you have questions on this rule, call or email Mr. Joseph Myers, U.S. Coast Guard; telephone 202-372-1249, email CGFishSafe@uscg.mil.

SUPPLEMENTARY INFORMATION:

Background

On February 14, 2014, the Coast Guard published a final rule that added the waiver of citizenship requirements for crewmembers on commercial fishing vessels. 79 FR 8864. The final rule delayed the effective dates of 46 CFR 28.1105 and 28.1110 because these sections contain collection-of-information provisions that require approval by the Office of Management and Budget (OMB) under the Paperwork Reduction Act of 1995, 44 U.S.C. 3501-3520. On March 21, 2016, the OMB approved the collection, “Commercial Fishing Industry Vessel Safety Regulations,” and assigned OMB Control Number 1625-0061. Accordingly, we announce that 46 CFR 28.1105 and 28.1110 are effective December 23, 2019.

This document is issued under the authority of 46 U.S.C. 8103(b)(3)(C).

Dated: November 15, 2019.
R.V. Timme,
Rear Admiral, U.S. Coast Guard, Assistant Commandant for Prevention Policy.

[FR Doc. 2019-25234 Filed 11-20-19; 8:45 am]

BILLING CODE 9110-04-P